DEPARTMENT OF AGRICULTURE

Submission for OMB Review; Comment Request

February 14, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology.

Comments regarding this information collection received by March 22, 2013 will be considered. Written comments should be addressed to: Desk Officer for Agriculture, Office of Information and Regulatory Affairs, Office of Management and Budget (OMB), New Executive Office Building, 725—17th Street NW., Washington, DC 20503. Commentors are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Forest Industries Data Collection System.

OMB Control Number: 0596-0010.

Summary of Collection: The Forest and Range Renewable Resources Planning Act of 1974 (Pub. L. 93-278), National Forest Management Act of 1976 (16 U.S.C. 1600), and the Forest and Rangeland Renewable Resources Research Act of 1978 (Pub. L. 95-307) amended by the Energy Security Act of 1980 (42 U.S.C. 8701) require the Forest Service (FS) to evaluate trends in the use of logs and wood chips, to forecast anticipated levels of logs and wood chips, and to analyze changes in the harvest of the resources. Forest product and other wood-using industries are important to state, regional, and national economies. In most southern states, the value of rounded timber products is ranked either first or second in relation to other major agricultural crops. The importance and value of the timber products industry is significant in other regions of the United States as well. The FS will collect information using questionnaires.

Need and Use of the Information: To monitor the types, species, volumes, sources, and prices of the timber products harvested throughout the Nation. Using the “Primary Mill Questionnaire” FS will collect industrial round wood information from the primary wood-using industries throughout the United States and from mills in Canada that directly receive wood from the United States. FS will also use the “Pulp & Board Forest Industries Questionnaire.” The data will be used to develop specific economic development plans for a new forest-related industry in a State and to assist existing industries in identifying raw material problems and opportunities. If the information were not collected, data would not be available for sub-state, state, regional and national policy makers and program developers to make decisions related to the forestland on a scientific basis.

Description of Respondents: Business or other for-profit; Not-for-profit institutions.

Number of Respondents: 1,937.

Frequency of Responses: Reporting: On occasion; Annually.

Total Burden Hours: 1,718.

Charlene Parker,
Departmental Information Collection Clearance Officer.

[FR Doc. 2013-03889 Filed 2-19-13; 8:45 am]

BILLING CODE 3410-11-P